ENVIRONMENTAL PROTECTION AGENCY

[EPA-HQ-OPP-2010-0095; FRL-8810-8]

Notice of Filing of Several Pesticide Petitions for Residues of Pesticide Chemicals in or on Various Commodities

AGENCY: Environmental Protection Agency (EPA).

ACTION: Notice.

SUMMARY: This notice announces the Agency's receipt of several initial filings of pesticide petitions proposing the establishment of regulations for residues of pesticide chemicals in or on various commodities.

DATES: Comments must be received on or before April 5, 2010.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Biopesticides and Pollution Prevention Division (7511P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date, and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have a typical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment of regulations in 40 CFR part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

In accordance with 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing a notice of the petitions so that the public has an opportunity to comment on these requests for the establishment of regulations for residues of pesticides in or on food commodities. Further information on the petitions may be obtained through the petition summaries referenced in this unit.

New Tolerance Exemptions

1. PP 0F7681. (EPA-HQ-OPP-2010-0078). Marrone Bio Innovations Incorporated, 2121 Second Street, Suite B-107, Davis, CA 95618, proposes to establish an exemption from the requirement of a tolerance for residues of the microbial pesticide, Streptomyces acidiscabies strain RL-110T, in or on all agricultural commodities. The petitioner believes no analytical method is needed because when used as proposed, Streptomyces acidiscabies strain RL-110T will not result in residues that are of toxicological concern. Contact: Ann Sibold, (703) 305-6502, e-mail address: sibold.ann@epa.gov.

2. PP 9E7635. (EPA-HQ-OPP-2010-0055). Interregional Research Project Number 4 (IR-4), Rutgers University, 500 College Road East, Suite 201W, Princeton, NJ 08540 (on behalf of BioProdex Incorporated, 8520 NW 2 Place, Gainesville, FL 32607-1423), proposes to establish an exemption from the requirement of a tolerance for residues of the herbicide, Tobacco Mild Green Mosaic Tobamovirus, in or on all food commodities. The petitioner believes no analytical method is needed because Tobacco Mild Green Mosaic Tobamovirus occurs in fruiting vegetables, cucurbits, tobacco, and many other crops and is, therefore, indistinguishable from background levels normally present in the environment. Furthermore, since an exemption from tolerance is being requested, the petitioner has also emphasized that there is no need to analyze for residues. Contact: Jeannine Kausch, (703) 347-8920, e-mail address: kausch.jeannine@epa.gov.

3. PP 9F7587. (EPA-HQ-OPP-2010-0092). Technology Sciences Group Incorporated, 1150 18th Street NW., Suite 1000, Washington, DC 20036 (on behalf of Natural Industries Incorporated, 6223 Theall Road, Houston, TX 77066), proposes to establish an exemption from the requirement of a tolerance for residues of the mycoinsecticide, Paecilomyces fumosoroseus strain FE 9901, in or on vegetable and herb crops grown in greenhouses. The petitioner believes no analytical method is needed because residues of Paecilomyces fumosoroseus strain FE 9901 are not expected to occur as it degrades rapidly in sunlight and in high temperatures, conditions commonly found in greenhouses. Contact: Kathleen Martin, (703) 308-2857, e-mail address: martin.kathleen@epa.gov.

4. PP 9F7618. (EPA-HQ-OPP-2010-0053). Technology Sciences Group Incorporated, 1150 18th Street NW., Suite 1000, Washington, DC 20036 (on behalf of BioWorks Incorporated, 100 Rawson Road, Suite 205, Victor, NY 14564), proposes to establish an exemption from the requirement of a tolerance for residues of the fungicide, Trichoderma virens strain G-41, in or on all food commodities. The petitioner believes no analytical method is needed because, as proposed, the use of Trichoderma virens strain G-41 would not result in residues that are of toxicological concern. Contact: Jeannine Kausch, (703) 347-8920, e-mail address: kausch.jeannine@epa.gov.

5. PP 9F7623. (EPA-HQ-OPP-2010-0099). SciReg Incorporated, 12733 Director's Loop, Woodbridge, VA 22192 (on behalf of bio-Ferm GmbH, Konrad Lorenz Strasse 20, A-3430, Tulln, Austria), proposes to establish an exemption from the requirement of a tolerance for residues of the fungicides, Aureobasidium pullulans strains DSM 14940 and DSM 14941, in or on all food commodities. The petitioner believes no analytical method is needed because they are submitting a petition to establish an exemption from the requirement of a tolerance. Contact: Susanne Cerrelli, (703) 308-8077, e-mail address: cerrelli.susanne@epa.gov.

6. PP 9F7643. (EPA-HQ-OPP-2010-0104). Certis USA LLC, 9145 Guilford Road, Suite 175, Columbia, MD 21046, proposes to establish an exemption from the requirement of a tolerance for residues of the microbial pesticide, Bacillus subtilis strain CX-9060, in or on all food commodities including residues resulting from post-harvest uses. The petitioner believes no analytical method is needed because an exemption from the requirement of a tolerance is being sought. Contact: Denise Greenway, (703) 308-8263, e-mail address: greenway.denise@epa.gov.

7. PP 9F7665. (EPA-HQ-OPP-2010-0087). Certis USA LLC, 9145 Guilford Road, Suite 175, Columbia, MD 21046, proposes to establish an exemption from the requirement of a tolerance for residues of the insecticide, Paecilomyces fumosoroseus var. Apopka strain 97, in or on all food commodities. The petitioner believes no analytical method is needed because the pesticide occurs naturally and would be present irrespective of treatment, and there are no residues of toxicological concern. Contact: Shanaz Bacchus, (703) 308-8097, e-mail address: bacchus.shanaz@epa.gov.

8. PP 9F7670. (EPA-HQ-OPP-2010-0065). Technology Sciences Group Incorporated, 1150 18th Street NW., Suite 1000, Washington, DC 20036 (on behalf of AMVAC Chemical Corporation, 4695 MacArthur Court, Suite 1250, Newport Beach, CA 92660-1706), proposes to establish an exemption from the requirement of a tolerance for residues of the potato sprout inhibitor, 3-decen-2-one, in or on all food commodities. The petitioner believes no analytical method is needed because the use of 3-decen-2-one would not result in residues that are of toxicological concern. Contact: Driss Benmhend, (703) 308-9525, e-mail address: benmhend.driss@epa.gov.

9. PP 9F7674. (EPA-HQ-OPP-2010-0054). Marrone Bio Innovations Incorporated, 2121 Second Street, Suite B-107, Davis, CA 95618, proposes to establish an exemption from the requirement of a tolerance for residues of the insecticide, Chromobacterium subtsugae strain PRAA4-1T, in or on all food commodities. The petitioner believes no analytical method is needed because, as proposed, the use of Chromobacterium subtsugae strain PRAA4-1T would not result in residues that are of toxicological concern. Contact: Jeannine Kausch, (703) 347-8920, e-mail address: kausch.jeannine@epa.gov.

List of Subjects

Environmental protection, Agricultural commodities, Feed additives, Food additives, Pesticides and pests, Reporting and recordkeeping requirements.

Dated: February 24, 2010.
Keith A. Matthews,
Acting Director, Biopesticides and Pollution Prevention Division, Office of Pesticide Programs.

[FR Doc. 2010-4804 Filed 3-9-10; 8:45 am]

BILLING CODE 6560-50-S